DEPARTMENT OF ENERGY

Federal Energy Regulatory Commission

[Docket Nos. CP03-41-000 and CP03-43-000]

Dominion Transmission, Inc., Texas Eastern Transmission, LP; Notice of Site Visit

March 14, 2003.

On Monday, March 24, 2003, the Federal Energy Regulatory Commission (FERC) staff will conduct a site visit of Dominion Transmission, Inc.'s (DTI) Mid-Atlantic Expansion Project and Texas Eastern Transmission, L.P.'s (Texas Eastern) Dominion Expansion Project. DTI's project would be in Wetzel County, West Virginia; Greene and Franklin Counties, Pennsylvania; and Loudoun and Fauquier Counties, Virginia. Texas Eastern's project would be in Greene, Fayette, Somerset, Fulton, and Franklin Counties, Pennsylvania.

We will meet at these locations, at the specified times and dates, to visit the identified portions of the projects:

Monday, March 24, 2003 at 1:30 p.m.

Location: Simon's Market.

Address: Route 20.

Town: Pine Grove, WV 20419.

Contact: For DTI: Bob Pastorik, 304-627-3458.

Itinerary: DTI's proposed Mockingbird Hill Compressor Station site in Wetzel County, West Virginia; and DTI's existing Crayne Compressor Station in Greene County, Pennsylvania.

Tuesday, March 25, 2003, 8 a.m.

Location: BP/7-11 Gas Station.

Address: Route 21W on the northeast corner of the intersection with Route 79.

Town: Waynesburg, PA.

Contact: For Texas Eastern: Dana Rogers, 877-626-7410.

Itinerary: Texas Eastern's proposed Waynesburg Discharge pipeline segments 1 and 2 in Greene and Fayette Counties, Pennsylvania; and possibly portions of Texas Eastern's proposed Uniontown Discharge pipeline segment in Somerset County, Pennsylvania.

Wednesday, March 26, 2003, 8 a.m.

Location: Somerset Ramada.

Address: 215 Ramada Road.

Town: Somerset, PA 15501.

Contact: For Texas Eastern: Dana Rogers, 877-626-7410.

Itinerary: Texas Eastern's proposed Uniontown Discharge pipeline segment in Somerset County, Pennsylvania; Texas Eastern's proposed Bedford Discharge pipeline segment in Fulton and Franklin Counties, Pennsylvania; and DTI's existing Chambersburg Compressor Station in Franklin County, Pennsylvania.

Thursday, March 27, 2003, 8 a.m.

Location: Leesburg Compressor Station.

Address: 40620 Consolidated Lane.

Town: Leesburg, VA 20175.

Contact: For DTI: Wayne Burkhammer, 703-327-4163.

Itinerary: DTI's existing Leesburg Compressor Station, Loudoun County, Virginia; and DTI's proposed Quantico Compressor Station, Fauquier County, Virginia.

For further information call the Office of External Affairs, at (202) 502-8004 or (866) 208-3372.
Magalie R. Salas,
Secretary.

[FR Doc. 03-6722 Filed 3-19-03; 8:45 am]

BILLING CODE 6717-01-P